DEPARTMENT OF TRANSPORTATION

Federal Aviation Administration

14 CFR Part 39

[Docket No. FAA-2005-20438; Directorate Identifier 2005-CE-03-AD]

RIN 2120-AA64

Airworthiness Directives; Cessna Aircraft Company Models 172R, 172S, 182T, T182T, 206H, and T206H Airplanes

AGENCY: Federal Aviation Administration (FAA), DOT.

ACTION: Notice of proposed rulemaking (NPRM).

SUMMARY: The FAA proposes to adopt a new airworthiness directive (AD) for certain Cessna Aircraft Company (Cessna) Models 172R, 172S, 182T, T182T, 206H, and T206H airplanes. This proposed AD would require you to inspect any MC01-3A I.C. 9 or MC01-3A I.C. 10 main electrical power junction box circuit breakers for correct amperage (amp) (a correct 40-amp circuit breaker) and replace any incorrect amp circuit breaker with the correct 40-amp circuit breaker. This proposed AD results from several reports of circuit breakers that are not the correct 40-amp circuit breaker installed in the MC01-3A main electrical power junction box. We are issuing this proposed AD to replace any incorrect circuit breaker installed in the MC01-3A I.C. 9 or MC01-3A I.C. 10 main electrical power junction box, which could result in premature tripping of the power junction box main feeder circuit breakers and could lead to partial or complete loss of all electrical power on the airplane. This failure could lead to the loss of all navigation and communication equipment and lighting in the cockpit.

DATES: We must receive any comments on this proposed AD by May 16, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Cessna Aircraft Company, Product Support, P.O. Box 7706, Wichita, Kansas 67277; telephone: (316) 517-5800; facsimile: (316) 942-9006.

To view the comments to this proposed AD, go to http://dms.dot.gov. The docket number is FAA-2005-20438; Directorate Identifier 2005-CE-03-AD.

FOR FURTHER INFORMATION CONTACT: Jose Flores, Aerospace Engineer, Wichita Aircraft Certification Office (ACO), FAA, 1801 Airport Road, Wichita, Kansas 67209; telephone: (316) 946-4133; facsimile: (316) 946-4107.

SUPPLEMENTARY INFORMATION:

Comments Invited

How do I comment on this proposed AD? We invite you to submit any written relevant data, views, or arguments regarding this proposal. Send your comments to an address listed under ADDRESSES. Include the docket number, “FAA-2005-20438; Directorate Identifier 2005-CE-03-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20438; Directorate Identifier 2005-CE-03-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? Cessna has reported three cases of incorrect amperage (amp) circuit breakers installed in the MC01-3A I.C. 9 (part number (P/N) S3100-297) or MC01-3A I.C. 10 (P/N S3100-344) main electrical power junction box. The design of the main electrical power junction box requires 40-amp circuit breakers. Two of the three cases of incorrect circuit breakers were found in Cessna production and a third was found in Cessna spares.

What is the potential impact if FAA took no action? Any incorrect circuit breaker installed in the MC01-3A main electrical power junction box could result in premature tripping of the power junction box main feeder circuit breakers, which could lead to partial or complete loss of all electrical power on the airplane. This failure could lead to the loss of all navigation and communication equipment and lighting in the cockpit.

Is there service information that applies to this subject? Cessna has issued Service Bulletin No. SB05-24-01, dated January 31, 2005.

What are the provisions of this service information? The service bulletin includes procedures for:

—Inspecting any MC01-3A I.C. 9 or MC01-3A I.C. 10 main electrical power junction box circuit breakers for any circuit breaker that is not a required 40-amp circuit breaker; and

—Replacing any incorrect circuit breaker with the correct 40-amp circuit breaker.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 778 airplanes in the U.S. registry.

What would be the cost impact of this proposed AD on owners/operators of the affected airplanes? We estimate the following costs to do this proposed inspection:

Labor cost | Parts cost | Total cost per airplane | Total cost on U.S. operators
1 work hour × $65 = $65 | None | $65 | 778 × $65 = $50,570.

We estimate the following costs to do any necessary replacements that would be required based on the results of this proposed inspection. We have no way of determining the number of airplanes that may need this replacement:

Labor cost | Parts cost | Total cost per airplane
1 work hour × $65 = $65 | $40 | $105

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2005-20438; Directorate Identifier 2005-CE-03-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2005-20438; Directorate Identifier 2005-CE-03-AD.

When Is the Last Date I Can Submit Comments on This Proposed AD?

(a) We must receive comments on this proposed airworthiness directive (AD) by May 16, 2005.

What Other ADs Are Affected by This Action?

(b) None.

What Airplanes Are Affected by This AD?

(c) This AD affects the following airplane models and serial numbers that are certificated in any category:

Model | Serial Nos.
172R | 17281186 through 17281232.
172S | 172S9476 through 172S9689, and 172S9691 through 172S9770.
182T | 18281242 through 18281502, 18281506, and 18281507.
T182T | T18208212 through T18208357.
206H | 20608195 through 20608223, 20608225, and 20608226.
T206H | T20608410 through T20608475, T20608477 through T20608501, T20608503, and T20608506.

What Is the Unsafe Condition Presented in This AD?

(d) This AD is the result of several reports of circuit breakers that are not the correct 40-amp circuit breaker installed in the MC01-3A I.C. 9 or MC01-3A I.C. 10 main electrical power junction box. The actions specified in this AD are intended to replace any incorrect circuit breaker installed in the MC01-3A main electrical power junction box, which could result in premature tripping of the power junction box main feeder circuit breakers and could lead to partial or complete loss of all electrical power on the airplane. This failure could lead to the loss of all navigation and communication equipment and lighting in the cockpit.

What Must I Do To Address This Problem?

(e) To address this problem, you must do the following:

Actions | Compliance | Procedures
(1) Inspect any MC01-3A I.C. 9 (part number (P/N) S3100-297) or MC01-3A I.C. 10 (P/N S3100-344) main electrical power junction box for any incorrect amperage (amp) circuit beaker installed in place of the required 40-amp circuit breakers | Within the next 30 days after the effective date of this AD, unless already done | Follow Cessna Service Bulletin No. SB05-24-01, dated January 31, 2005.
(2) Replace any incorrect amp circuit breaker with the required 40-amp circuit breaker | Before further flight after the inspection required by paragraph (e)(1) of this AD | Follow Cessna Service Bulletin No. SB05-24-01, dated January 31, 2005.
(3) Only install in any MC01-3A I.C. 9 (P/N S3100-297) or MC01-3A I.C. 10 (P/N S3100-344) main electrical power junction box the required 40-amp circuit breakers | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Jose Flores, Aerospace Engineer, Wichita ACO, FAA, 1801 Airport Road, Wichita, Kansas 67209; telephone: (316) 946-4133; facsimile: (316) 946-4107.

May I Obtain a Special Flight Permit for the Initial Inspection Requirement of This AD?

(g) Yes, special flight permits are allowed per 14 CFR 39.19 provided airplane operations are limited to Day/visual flight rules (VFR) flight.

May I Get Copies of the Documents Referenced in This AD?

(h) To get copies of the documents referenced in this AD, contact Cessna Aircraft Company, Product Support, P.O. Box 7706, Wichita, Kansas 67277; telephone: (316) 517-5800; facsimile: (316) 942-9006. To view the AD docket, go to the Docket Management Facility; U.S. Department of Transportation, 400 Seventh Street, SW., Nassif Building, Room PL-401, Washington, DC, or on the Internet at http://dms.dot.gov. The docket number is Docket No. FAA-2005-20438; Directorate Identifier 2005-CE-03-AD.

Issued in Kansas City, Missouri, on March 10, 2005.
David R. Showers,
Acting Manager, Small Airplane Directorate, Aircraft Certification Service.

[FR Doc. 05-5294 Filed 3-16-05; 8:45 am]

BILLING CODE 4910-13-P